DEPARTMENT OF HOMELAND SECURITY

Coast Guard

33 CFR Parts 117

[USCG-2001-10881]

RIN 1625-AA36

Drawbridge Operation Regulations; Amendments

AGENCY: Coast Guard, DHS.

ACTION: Final rule; correcting amendments.

SUMMARY: This document contains corrections to the operating schedules of the SE. Third Avenue, Andrews Avenue and Marshal (Seventh Avenue) bridges across the New River, miles 1.4, 2.3, and 2.7 respectfully and the operating schedule of the Davie Boulevard (SW. Twelfth Street) bridge across the New River, South Fork, mile 0.9, Fort Lauderdale, Broward County, Florida published on December 4, 2006 in the Federal Register (71 FR 70305) under docket number USCG-2001-10881.

DATES: This correction is effective February 15, 2007.

ADDRESSES: Comments and material received from the public, as well as documents mentioned in this preamble as being available in the docket, are part of docket USCG-2001-10881 and are available for inspection or copying at the Docket Management Facility, U.S. Department of Transportation, room PL-401, 400 Seventh Street, SW., Washington, DC, between 9 a.m. and 5 p.m., Monday through Friday, except Federal holidays. You may also find this docket on the Internet at http://dms.dot.gov.

FOR FURTHER INFORMATION CONTACT: Mr. Chris Jaufmann, Office of Bridge Administration, United States Coast Guard Headquarters, 202-372-1511. If you have questions on viewing or submitting material to the docket, call Renee V. Wright, Program Manager, Dockets Operations, Department of Transportation, telephone 202-493-0402.

SUPPLEMENTARY INFORMATION: On December 4, 2006, the Coast Guard published a final rule (USCG-2001-10881) that made technical, organizational, and conforming amendments throughout 33 CFR part 117. This rule became effective on January 4, 2007. (71 FR 70305) The effective date of this final rule inadvertently changed the operating schedules of the SE. Third Avenue, Andrews Avenue and Marshal (Seventh Avenue) bridges across the New River, miles 1.4, 2.3, and 2.7 respectfully and the operating schedule of the Davie Boulevard (SW. Twelfth Street) bridge across the New River, South Fork, mile 0.9, Fort Lauderdale, Broward County, Florida. The operating schedules for these bridges had been changed in a final rule published on November 8, 2006 in the Federal Register (docket number CGD07-06-019) and effective on December 8, 2006. (71 FR 65414) This correction document reverts the incorrect operating schedule back to the correct schedules established by the November 8, 2006 rule codified under CGD07-06-019.

List of Subjects in 33 CFR Part 117

Bridges.

Accordingly, 33 CFR part 117 is corrected by making the following correcting amendments:

PART 117—DRAWBRIDGE OPERATION REGULATIONS

1. The authority citation for part 117 continues to read as follows:

Authority: 33 U.S.C. 499; 33 CFR 1.05-1(g); and Department of Homeland Security Delegation No. 0170.1.

2. Revise § 117.313 paragraph (a) to read as follows:

§ 117.313 New River.

(a) The draw of the SE. Third Avenue bridge, mile 1.4 at Fort Lauderdale shall open on signal; except that, from 7:30 a.m. to 9 a.m. and 4:30 p.m. to 6 p.m., Monday through Friday, except Federal holidays, the draw need not open. Public vessels of the United States, tugs with tows, and vessels in distress shall be passed at any time.

* * * * *

3. Revise § 117.315 paragraph (a) to read as follows:

§ 117.315 New River, South Fork.

(a) The draw of the Davie Boulevard (SW. Twelfth Street) bridge, mile 0.9 at Fort Lauderdale shall open on signal; except that, from 7:30 a.m. to 9 a.m. and 4:30 p.m. to 6 p.m., Monday through Friday, except Federal holidays, the draw need not open. Public vessels of the United States, tugs with tows, and vessels in distress shall be passed at any time.

* * * * *

Dated: February 9, 2007.
Stefan G. Venckus,
Chief, Office of Regulations and Administrative Law, United States Coast Guard.

[FR Doc. E7-2589 Filed 2-14-07; 8:45 am]

BILLING CODE 4910-15-P